DEPARTMENT OF JUSTICE

Notice of Lodging of Proposed Consent Decree Under the Comprehensive Environmental Response, Compensation, and Liability Act

On April 15, 2014, the Department of Justice lodged a proposed Consent Decree with the United States District Court for the Western District of Virginia, Roanoke Division, in the lawsuit entitled United States v. Dixon Construction Company, Inc., 7:14-cv-00105.

The Consent Decree resolves the claims of the United States set forth in the complaint against Dixon Construction Company for costs incurred and to be incurred in connection with the Pipers Gap Acid Trailers Site, located near Lambsburg, Carroll County, Virginia (the “Site”), pursuant to Section 107 of the Comprehensive Environmental Response, Compensation, and Liability Act (“CERCLA”), 42 U.S.C. § 9607. Under the Consent Decree, the settling defendant agrees to reimburse $150,000 in past costs to the United States Environmental Protection Agency, based upon its limited ability to pay.

The publication of this notice opens a period for public comment on the Consent Decree. Comments should be addressed to the Assistant Attorney General, Environment and Natural Resources Division, and should refer to United States v. Dixon Construction Company, Inc., D.J. Ref. No. 90-11-3-10713. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $5.50 (25 cents per page reproduction cost) payable to the United States Treasury. For a paper copy without the appendices and signature pages, the cost is $3.75.

Robert Brook,
Assistant Section Chief, Environmental Enforcement Section, Environment and Natural Resources Division.

[FR Doc. 2014-09287 Filed 4-23-14; 8:45 am]

BILLING CODE 4410-15-P